DEPARTMENT OF HEALTH AND HUMAN SERVICES

Health Resources and Services Administration

Notice of Single-Award Deviation From Competition Requirements for the National Center for Medical Home Implementation Cooperative Agreement

AGENCY: Health Resources and Services Administration, HHS.

ACTION: Notice of Single-Award Deviation from Competition Requirements for the National Center for Medical Home Implementation Cooperative Agreement.

SUMMARY: HRSA announces the award of a supplement in the amount of $300,000 per year for two years for the National Center for Medical Home Implementation (NCMHI) Cooperative Agreement cooperative agreement. The purpose of the NCMHI cooperative agreement, as stated in the funding opportunity announcement, is to: (1) Support a national resource and assistance effort to implement and spread the medical home model to all children and youth, particularly children with special health care needs (CSHCN), children who are vulnerable and/or medically underserved, and pediatric populations served by state public health programs, MCHB and HRSA; and (2) support activities of the Healthy Tomorrows Partnership for Children Program (HTPCP) grantees to improve children's health through innovative community-based efforts, and community and statewide partnerships among professionals in health, education, social services, government, and business. The supplement will permit the American Academy of Pediatrics (AAP), the cooperative agreement awardee, during the budget periods of 7/1/2016-6/30/2017 and 7/1/2017-6/30/2018, to provide technical assistance to the Rural IMPACT communities as they employ two-generation strategies to more effectively support children living in poverty in rural communities, including the implementation and spread of the family-centered medical home model of health care.

SUPPLEMENTARY INFORMATION:

Intended Recipient of the Award: The American Academy of Pediatrics.

Amount of Non-Competitive Awards: $600,000.

Period of Supplemental Funding: 7/1/2016-6/30/2017 and 7/1/2017-6/30/2018.

CFDA Number: 93.110.

Authority: Social Security Act, Title V, sections 501(a)(1)(D) and 501(a)(2), (42 U.S.C. 701(a)(1)(D) and 701(a)(2)).

Justification: The White House Rural Council initiated the Rural IMPACT project to support improved well-being and upward economic mobility of children in rural and tribal communities. Ideally, systems and services are designed to meet family's needs, and are linked together so that families can access them seamlessly through universal “no wrong door” intake processes and shared referral networks. Components of the Rural IMPACT project include Healthy Start, Early Head Start, Head Start, Home Visiting, WIC, Medical Home, Quality Child Care Education Job Training and income and nutrition supports such as TANF cash assistance, Supplemental Security Income, and the Supplemental Nutrition Assistance Program. The goal of Rural IMPACT is to ensure the healthy development of at-risk children and increase the education and employment opportunities of their parents, thereby improving the well-being of families.

Rural IMPACT project continues to be a high priority of the White House Rural Council, and support for the ten Rural IMPACT communities will continue to be an interagency effort including, in addition to HHS, the Departments of Agriculture, Education, Labor, and the Corporation for National and Community Service.

The purpose of the NCMHI cooperative agreement, as stated in the funding opportunity announcement, is to: (1) Support a national resource and assistance effort to implement and spread the medical home model to all children and youth, particularly children with special health care needs (CSHCN), children who are vulnerable and/or medically underserved, and pediatric populations served by state public health programs, MCHB and HRSA; and (2) support activities of the Healthy Tomorrows Partnership for Children Program (HTPCP) grantees to improve children's health through innovative community-based efforts, and community and statewide partnerships among professionals in health, education, social services, government, and business. The Rural IMPACT Project activities align with the current project plan, as the NCMHI advances system changes and new initiatives at the community, state, and national levels, building on community partnerships to support family-centered medical home implementation for all children and youth, particularly those underrepresented and from diverse communities (Goal 3).

In 2013, following objective review of its application, HRSA awarded the NCMHI cooperative agreement to the American Academy of Pediatrics (AAP), a nonprofit, tax-exempt organization under Internal Revenue Code 501(c)(3). In 2015, HRSA awarded a $300,000 supplement to the NCMHI cooperative agreement to allow the AAP to build on its existing work under the cooperative agreement to implement and spread the medical home model in Rural IMPACT project communities, thereby advancing the well-being of children in those communities.

From August 2015 to June 2016, AAP, as part of the NCMHI cooperative agreement, established an expert workgroup and operational structure to guide the initiative; developed and issued a solicitation and scoring process, and conducted a review of applications to make recommendations for participating communities. Since the identification of ten rural and tribal communities, the AAP has provided technical assistance to support their efforts to develop and begin implementing two-generation service delivery models to address the needs of both vulnerable children and their parents.

From July 2016 to June 2018, the ten participating communities will implement their action plans. Ongoing support is needed to assist the communities in implementation as well as evaluation, sustainability, and dissemination of information. This supplement will provide additional funds, through the NCMHI cooperative agreement, to provide technical assistance to the Rural IMPACT communities as they employ two-generation strategies to more effectively support children living in poverty in rural communities, including the implementation and spread of the family-centered medical home model of health care.

FOR FURTHER INFORMATION CONTACT: Marie Y. Mann, MD, MPH, FAAP, Division of Services for Children with Special Health Needs, Maternal and Child Health Bureau, Health Resources and Services Administration, 5600 Fishers Lane, Room 13-103, Rockville, Maryland 20857; MMann@hrsa.gov.

Grantee/organization name | Grant No. | State | FY 2016 authorized funding level | FY 2016 estimated supplemental funding | FY 2017 authorized funding level | FY 2017 estimated supplemental funding
The American Academy of Pediatrics | U43MC09134 | IL | $800,031 | $300,000 | $800,031 | $300,000

Dated: August 8, 2016.
James Macrae,
Acting Administrator.

[FR Doc. 2016-19347 Filed 8-12-16; 8:45 am]

BILLING CODE 4165-15-P